SOCIAL SECURITY ADMINISTRATION

[Docket No: SSA-2024-0055]

Agency Information Collection Activities: Proposed Request

The Social Security Administration (SSA) publishes a list of information collection packages requiring clearance by the Office of Management and Budget (OMB) in compliance with Public Law 104-13, the Paperwork Reduction Act of 1995, effective October 1, 1995. This notice includes one new request, as well as extensions and revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA

(SSA) Social Security Administration, OLCA, Attn: Reports Clearance Director, Mail Stop 3253 Altmeyer, 6401 Security Blvd., Baltimore, MD 21235, Fax: 833-410-1631, Email address: OR.Reports.Clearance@ssa.gov

Or you may submit your comments online through https://www.reginfo.gov/public/do/PRAmain by clicking on Currently under Revie—Open for Public Comments and choosing to click on one of SSA's published items. Please reference Docket ID Number [SSA-2024-0055] in your submitted response.

The information collections below are pending at SSA. SSA will submit them to OMB within 60 days from the date of this notice. To be sure we consider your comments, we must receive them no later than February 24, 2025. Individuals can obtain copies of the collection instruments by writing to the above email address.

1. Request for Hearing by Administrative Law Judge—20 CFR 404.929, 404.933, 416.1429, 404.1433, 418.1350, and 42 CFR 405.722—0960-0269. When SSA denies applicants', claimants', or beneficiaries' requests for new or continuing disability benefits or payments, the Act entitles those applicants, claimants, or beneficiaries to request a hearing to appeal the decision. To request a hearing, individuals complete Form HA-501; the associated Modernized Claims System (MCS) or Supplemental Security Income (SSI) Claims System interview; or the internet application (i501). SSA uses the information to determine if the individual: (1) filed the request within the prescribed time; (2) is the proper party; and (3) took the steps necessary to obtain the right to a hearing. SSA also uses the information to determine: (1) the individual's reason(s) for disagreeing with SSA's prior determinations in the case; (2) if the individual has additional evidence to submit; (3) if the individual wants an oral hearing or a decision on the record; and (4) whether the individual has (or wants to appoint) a representative. The respondents are Social Security or SSI disability applicants and recipients who want to appeal SSA's denial of their request for new or continued benefits for disability and non-medical hearing requests; and Medicare Part B recipients who must pay the Medicare Part B Income-Related Monthly Adjustment Amount.

Type of Request: Revision of an OMB-approved information collection.

Modality of completion | Number of respondents | Frequency of response | Average burden per response (minutes) | Estimated total annual burden (hours) | Average theoretical hourly cost amount (dollars) * | Average wait time in a field office (minutes) ** | Total annual opportunity cost (dollars) ***
HA-501; MCS; SSI Claims System | 162,904 | 1 | 10 | 27,151 | * 31.48 | ** 24 | *** 2,906,013
i501 (Internet iAppeals) | 281,819 | 1 | 15 | 70,455 | * 31.48 | ** 0 | *** 2,217,923
Totals | 444,723 |  |  | 97,606 |  |  | *** 5,123,936
* We based this figure on average U.S. worker's hourly wages, as reported by Bureau of Labor Statistics data (https://www.bls.gov/oes/current/oes_nat.htm).
** We based this figure on the average FY 2024 wait times for field offices, based on SSA's current management information data.
*** This figure does not represent actual costs that SSA is imposing on recipients of Social Security payments to complete this application; rather, these are theoretical opportunity costs for the additional time respondents will spend to complete the application. There is no actual charge to respondents to complete the application.

2. Surveys in Accordance with E.O. 12862 for the Social Security Administration—0960-0526. Under the auspices of Executive Order 12862, Setting Customer Service Standards, SSA conducts multiple customer satisfaction surveys each year. These voluntary customer satisfaction assessments include paper, internet, and telephone surveys; mailed questionnaires; and customer comment cards. The purpose of these questionnaires is to assess customer satisfaction with the timeliness, appropriateness, access, and overall quality of existing SSA services and proposed modifications or new versions of services. The respondents are recipients of SSA services (including most members of the public), professionals, and individuals who work on behalf of SSA beneficiaries.

Type of Request: Extension of an OMB-approved information collection.

| Number of respondents (burden for all activities within that year) | Frequency of response | Range of response times (minutes) | Burden (burden for all activities within that year; reported in hours)
Year 1 | 1,290,304 | 1 | 3-90 | 615,549
Year 2 | 1,290.304 | 1 | 3-90 | 615,549
Year 3 | 1,290.304 | 1 | 3-90 | 615,549
Totals | 3,870,912 |  |  | 1,846,647

3. Request for Reconsideration—20 CFR 404.907-404.921, 416.1407-416.1421, 408.1009, and 418.1325—0960-0622. The Social Security Act states those individuals who are dissatisfied with the results of an initial determination regarding their Title II disability; Tile XVI disability (Supplemental Security Income); Title VIII (Special Veterans benefits); or Title XVIII (Medicare benefits), they can request a reconsideration hearing. Individuals use Form SSA-561-U2; the associated MCS or SSI Claims System interview; or the internet application (i561) to initiate a request for reconsideration of a denied claim. SSA uses the information to document the request and to determine an individual's eligibility or entitlement to Social Security benefits (Title II); SSI payments (Title XVI); Special Veterans Benefits (Title VIII); Medicare (Title XVIII); and for initial determinations regarding Medicare Part B income-related premium subsidy reductions. The respondents are applicants, claimants, beneficiaries, or recipients filing for reconsideration of an initial determination.

Type of Request: Revision of an OMB-approved information collection.

Modality of completion | Number of respondents | Frequency of response | Average burden per response (minutes) | Estimated total annual burden (hours) | Average theoretical hourly cost amount * (dollars) | Average wait time in field office ** (minutes) | Total annual opportunity cost *** (dollars)
SSA-561, MCS, SSI Claims System | 339,217 | 1 | 8 | 45,229 | * 31.48 | ** 24 | *** 5,695,236
i561 (Internet iAppeals) | 447,139 | 1 | 15 | 111,785 | * 31.48 | ** 0 | *** 3,518,992
Totals | 786,356 |  |  | 157,014 |  |  | *** 9,214,228
* We based this figure on average U.S worker's hourly wages, as reported by Bureau of Labor Statistics data (https://www.bls.gov/oes/current/oes_nat.htm).
** We based this figure on the average FY 2024 wait times for field offices, based on SSA's current management information data.
*** This figure does not represent actual costs that SSA is imposing on recipients of Social Security payments to complete this application; rather, these are theoretical opportunity costs for the additional time respondents will spend to complete the application. There is no actual charge to respondents to complete the application.

4. Supportive Housing & Individual Placement and Support (SHIPS) Study—0960-0840.

Background: Homelessness and unemployment are linked issues, with rising housing costs often leaving people unable to afford homes when combined with unemployment. The instability of housing makes finding employment even more challenging, creating a difficult cycle to break. While studies have shown that supportive housing programs improve housing stability, there is no significant evidence that such programs reliably increase employment among residents. (For the purposes of this study, supportive housing is defined as housing services coupled with additional services that include case management support. These include place-based permanent supportive housing, scattered site permanent supportive housing, and rapid rehousing. Conversely, Individual Placement and Support (IPS), a proven method for supporting employment, has not demonstrated effectiveness in stabilizing housing. SSA is requesting clearance to collect data for the Supportive Housing and Individual Placement and Support (SHIPS) study, under the Interventional Cooperative Agreement Program (ICAP), to determine whether participation in Individual Placement and Support (IPS) improves the employment, income, health, and self-sufficiency of people who are recently homeless and living in supportive housing. ICAP allows SSA to partner with various non-federal groups and organizations to advance interventional research connected to the Supplemental Security Income (SSI) and Social Security Disability Insurance (SSDI) programs. SSA awarded Westat a cooperative agreement to conduct SHIPS. In addition to SSA, Westat is partnering with three subrecipients for this project: (1) People Assisting the Homeless (PATH); (2) the University of Southern California (U.S.C.); and (3) the Research Foundation for Mental Hygiene (RFMH) to implement the SHIPS study.

ICAP SHIPS Study Project Description: The SHIPS study is a randomized controlled trial (RCT) designed to determine whether participation in Individual Placement and Support (IPS) improves the employment, income, health, and self-sufficiency of people who are recently homeless and living in supportive housing. The SHIPS study will mark the first study testing the effectiveness of implementing IPS in a supportive housing program. SSA hypothesizes that combining the two most successful evidence-based practices that separately address homelessness and supported employment will yield a single intervention that effectively addresses both. The intent of the SHIPS study is to measure the effectiveness of evidence-based IPS compared to the services provided by local WorkSource Centers broadly available to jobseekers in the Los Angeles area, The housing case managers will refer PATH clients interested in finding employment and will randomly assign participants to one of two groups:

• IPS: The Individual Placement and Support (IPS) service team will offers a range of structured services customized to participants' personal needs, preferences, and challenges related to disabilities and/or mental health conditions. IPS was specifically designed as a supported employment model for individuals with serious mental illness and includes standardized training and fidelity requirements. Components of IPS that differ from those offered by WorkSource Services include integrated treatment that incorporates vocational and mental health services; benefits planning; and focus on rapid job search without extensive training.

• WorkSource Centers: Under PATH's current housing model, housing case managers refer PATH clients who express interest in finding employment to local American Job Centers, known as WorkSource Centers in Los Angeles. The WorkSource Centers are operated by the City of Los Angeles Economic and Workforce Development Department, and follow an employment services model that varies by WorkSource Center, is not evidence-based or subject to fidelity monitoring and is not necessarily responsive to the individual needs of jobseekers with disabilities.

The primary goals of the SHIPS study are:

• To measure the effects of IPS participation on employment, income, health, and long-term self-sufficiency measured as a combination of housing stability, income, and receipt of DI and SSI benefits.

• To describe the study population to understand both the generalizability of the study's findings and the potential reasons for the observed effects.

• To explore the IPS implementation process to understand barriers and facilitators to high-fidelity IPS implementation in the supportive housing context.

Grantee researchers and SSA will use the information collected during this study to: (1) assess the short-term and long-term effectiveness of the proposed intervention to improve employment, income, and self-sufficiency; (2) understand the implementation process; (3) provide detailed subgroup-specific data related to the effect of IPS.

The respondents are residents in supportive housing units operated by PATH who are unemployed and looking for employment.

Type of Request: Revision of an OMB-approved information collection.

Modality of completion | Number of participants | Frequency of response | Number of responses | Average burden per response (minutes) | Estimated total annual burden (hours) | Average theoretical hourly cost amount * (dollars) | Average wait time in office or for teleservice centers ** (minutes) | Total annual opportunity cost *** (dollars)
Study participants baseline interview | 200 | 1 | 200 | 60 | 200 | * 13.30 | ** 24 | *** 3,724
Study participants quarterly interviews | 200 | 7 | 1,400 | 10 | 233 | * 13.30 | ** 21 | *** 4,030
Study participants final interviews | 200 | 1 | 200 | 60 | 200 | * 13.30 | ** 21 | *** 3,591
PATH Interviews: Staff | 5 | 1 | 5 | 60 | 5 | * 32.05 | ** 24 | *** 224
SHIPS Interviews: participants | 5 | 1 | 5 | 60 | 5 | * 13.30 | ** 24 | *** 93
Totals | 610 |  |  | 250 | 643 |  |  | *** 11,662
* We based this figure on the average DI payments based on SSA's current FY 2024 data (https://www.ssa.gov/legislation/2024FactSheet.pdf), and survey researchers (https://www.bls.gov/oes/current/oes193022.htm)
** We based this figure on averaging both the average FY 2024 wait times for field offices and teleservice centers, based on SSA's current management information data.
*** This figure does not represent actual costs that SSA is imposing on recipients of Social Security payments to complete this application; rather, these are theoretical opportunity costs for the additional time respondents will spend to complete the application. There is no actual charge to respondents to complete the application.

Dated: December 19, 2024.
Naomi Sipple,
Reports Clearance Officer, Social Security Administration.

[FR Doc. 2024-30764 Filed 12-23-24; 8:45 am]

BILLING CODE 4191-02-P